DEPARTMENT OF LABOR

Employment and Training Administration

[TA-W-51,572]

Lonestar Cutting Services, Inc., El Paso, TX; Notice of Termination of Investigation

Pursuant to section 221 of the Trade Act of 1974, an investigation was initiated on April 24, 2003, in response to a petition filed on behalf of workers at Lonestar Cutting Services, Inc., El Paso, Texas.

All workers were separated from the subject firm more than one year before the date of the petition. Section 223 (b) of the Act specifies that no certification may apply to any worker whose last separation occurred more than one year before the date of the petition. Consequently, further investigation in this case would serve no purpose, and the investigation has been terminated.

Signed in Washington, DC this 28th day of April, 2003.
Elliott S. Kushner,
Certifying Officer, Division of Trade Adjustment Assistance.

[FR Doc. 03-11559 Filed 5-8-03; 8:45 am]

BILLING CODE 4510-30-P